DEPARTMENT OF EDUCATION

Notice of Proposed Information Collection Requests

AGENCY: Department of Education.

ACTION: Notice of Proposed Information Collection Requests.

SUMMARY: The Director, Information Collection Clearance Division, Regulatory Information Management Services, Office of Management, invites comments on the proposed information collection requests as required by the Paperwork Reduction Act of 1995.

DATES: An emergency review has been requested in accordance with the Act (44 U.S.C. Chapter 3507 (j)), since public harm is reasonably likely to result if normal clearance procedures are followed. Approval by the Office of Management and Budget (OMB) has been requested by June 25, 2010.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov.

SUPPLEMENTARY INFORMATION: Section 3506 of the Paperwork Reduction Act of 1995 (44 U.S.C. Chapter 35) requires that the Director of OMB provide interested Federal agencies and the public an early opportunity to comment on information collection requests. The Office of Management and Budget (OMB) may amend or waive the requirement for public consultation to the extent that public participation in the approval process would defeat the purpose of the information collection, violate State or Federal law, or substantially interfere with any agency's ability to perform its statutory obligations. The Director, Information Collection Clearance Division, Regulatory Information Management Services, Office of Management, publishes this notice containing proposed information collection requests at the beginning of the Departmental review of the information collection. Each proposed information collection, grouped by office, contains the following: (1) Type of review requested, e.g., new, revision, extension, existing or reinstatement; (2) Title; (3) Summary of the collection; (4) Description of the need for, and proposed use of, the information; (5) Respondents and frequency of collection; and (6) Reporting and/or Recordkeeping burden. ED invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on respondents, including through the use of information technology.

Dated: June 10, 2010.
Darrin A. King,
Director, Information Collection Clearance Division, Regulatory Information Management Services, Office of Management.

Office of Postsecondary Education

Type of Review: Emergency.

Title: Student Aid Fiscal Responsibility Act (SAFRA) Payments to Loan Servicers for Job Retention.

Abstract: The Department of Education is requesting emergency clearance of the data collection associated with this clearance by June 25, 2010. An emergency clearance is needed to meet Congressional legislative mandate to award funds to loan servicers prior to the end of the fiscal year. These funds were not appropriated until the Health Care and Education Reconciliation Act was signed on March 30, 2010. Specifically, this data collection is necessary to implement the requirements in section 458(a)(7) of the Higher Education Act of 1965 as amended (HEA), as added by section 2212 (b)(1) of the SAFRA Act. Title II of the Health Care and Education Reconciliation Act of 2010. The SAFRA Act requires the Department to commit $25,000,000 to distribute to eligible servicers by the end of FY 2010 and another $25,000,000 by the end of FY 2011.

This data collection is necessary to assist Federal Family Education Loan (FFEL) servicers in retaining jobs at their loan servicing facilities located in the United States as of January 1, 2010. The SAFRA Act provides for eligible loan servicers to apply for funds to assist them in maintaining jobs of people working on loan servicing at their U.S. locations. The Department will determine by formula the dollar amount of funds each eligible servicer will receive.

Additional Information: The Department (ED) is requesting that OMB grant an emergency clearance by June 25, 2010 for all documents necessary to meet the Congressional legislative mandate to award funds to loan servicers prior to the end of the fiscal year. SAFRA requires the Secretary to provide payments to student loan servicers in FY 2010 and FY 2011 for retaining jobs at locations in the United States where such servicers were operating under part B of the HEA on January 1, 2010.

This data collection is necessary to assist Federal Family Education Loan (FFEL) servicers in retaining jobs at their loan servicing facilities located in the United States as of January 1, 2010. The SAFRA Act provides for eligible loan servicers to apply for funds to assist them in maintaining jobs of people working on loan servicing at their U.S. locations. The Department will determine by formula the dollar amount of funds each eligible servicer will receive.

Emergency clearance is needed so that eligible servicers can apply for an award under SAFRA, and ED can meet the deadline set by Congress to evaluate the applications and obligate the awards before the end of the 2010 government fiscal year. We have a tight time frame to notify servicers, review their application, determine award amounts and inform servicers of award amounts and receive their updated plan for retaining jobs at their location within the U.S.

Implementation of the SAFRA Act requirements will be conducted in several phases. First, FFEL loan servicers will submit application forms with payroll information for individuals working within a servicing entity on loan origination activity at the location they designate on the date specified in the final requirements, as well as a plan for preserving jobs at that facility. This information provided will be used by the Department to determine award amount. The Department will calculate, by formula, the award each servicer will receive and will then notify the servicer of the award amount. Finally, the servicer will, before any funds are disbursed, submit an updated plan detailing how it will use the awarded funds to preserve jobs at that facility based on the actual award amount. The awarded amount will subsequently be disbursed to the servicer.

Upon receiving emergency clearance of the document the Department will publish the “Interim final requirements” in a separate Federal Register notice and start accepting applications from eligible servicers.

Frequency: Annually.

Affected Public: Business or other for-profits; Not-for-profit institutions; Private Sector.

Reporting and Recordkeeping Hour Burden:

Responses: 37.

Burden Hours: 1,739.

Requests for copies of the proposed information collection request may be accessed from http://edicsweb.ed.gov, by selecting the “Browse Pending Collections” link and by clicking on link number 4336. When you access the information collection, click on “Download Attachments” to view. Written requests for information should be addressed to U.S. Department of Education, 400 Maryland Avenue, SW., LBJ, Washington, DC 20202-4537. Requests may also be electronically mailed to the Internet address ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. 2010-14417 Filed 6-14-10; 8:45 am]

BILLING CODE P